DEPARTMENT OF EDUCATION

[Docket No. ED-2013-ICCD-0071]

Agency Information Collection Activities; Submission to the Office of Management and Budget for Review and Approval; Comment Request; National Assessment of Education Progress (NAEP) 2014-2016 System Clearance

AGENCY: Institute of Education/National Center for Education Statistics (IES), Department of Education (ED).

ACTION: Notice.

SUMMARY: In accordance with the Paperwork Reduction Act of 1995 (44 U.S.C. chapter 3501 et seq.), ED is proposing a new generic information collection request under the approved generic information collection systems clearance.

DATES: Interested persons are invited to submit comments on or before July 3, 2013.

ADDRESSES: Comments submitted in response to this notice should be submitted electronically through the Federal eRulemaking Portal at http://www.regulations.gov by selecting Docket ID number ED-2013-ICCD-0071 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E105, Washington, DC 20202-4537.

FOR FURTHER INFORMATION CONTACT: Electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: National Assessment of Education Progress (NAEP) 2014-2016 System Clearance.

OMB Control Number: 1850-0790.

Type of Review: A new generic information collection request under the approved generic information collection systems clearance.

Respondents/Affected Public: Individuals.

Total Estimated Number of Annual Responses: 33,927.

Total Estimated Number of Annual Burden Hours: 13,963.

Abstract: The National Assessment of Educational Progress (NAEP) is a federally authorized survey of student achievement at grades 4, 8, and 12 in various subject areas, such as mathematics, reading, writing, science, U.S. history, civics, geography, economics, and the arts. In the current legislation that reauthorized NAEP (20 U.S.C. 9622), Congress again mandated the collection of national education survey data through a national assessment program. This request is an information collection that falls under the approved systems clearance, 1850-0790. The 2014 Wave 1 submittal contains the following:

• the grades 4, 8, and 12 core (demographic) student questions,

• the grade 8 civics, geography, and U.S. history subject-specific student questions,

• the grades 4, 8, and 12 pilot science subject-specific student questions,

• the grades 4 and 8 teacher questionnaires, and

• the grades 4, 8, and 12 school questionnaires.

The 2014 submittal is divided into two waves to meet scheduling and question development requirements. The first wave contains the core, social studies (civics, geography, U.S. history), and science (paper-and-pencil) descriptions, burden, and questionnaires. Wave 2 will contain technology and engineering literacy (TEL) and science ICT (interactive computer tasks) descriptions, burden, and materials, as well as information regarding school coordinator activities, including the collection of information on students with disabilities (SD) and English language learners (ELL). The purpose of NAEP is to collect and report assessment data on student achievement in the subject areas assessed for use in monitoring educational progress. In addition to reporting overall results of student performance and achievement, NAEP also reports student performance results for various subgroups of students and on various educational factors.

Dated: May 28, 2013.
Stephanie Valentine,
Acting Director, Information Collection Clearance Division, Privacy, Information and Records Management Services, Office of Management.

[FR Doc. 2013-12997 Filed 5-31-13; 8:45 am]

BILLING CODE 4000-01-P